DEPARTMENT OF AGRICULTURE

Submission for OMB Review; Comment Request

June 22, 2015.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food Safety and Inspection Service

Title: Professional Services to Support Requirements Gathering Sessions for Safe Food Handling.

OMB Control Number: 0583-New.

Summary of Collection: The Food Safety and Inspection Service (FSIS) has been delegated the authority to exercise the functions of the Secretary of Agriculture (7 CFR 2.18, 2.53) as specified in the Federal Meat Inspection Act and the Poultry Products Inspection Act (21 U.S.C. 453 et seq., 601 et seq.). FSIS protects the public by verifying that meat and poultry products are wholesome, not adulterated, and properly marked, labeled, and packaged. The FSIS Office of Public Affairs and Consumer Education (OPACE) ensures that all segments of the farm-to-table chain receive valuable food safety information. Through its consumer education programs developed by OPACE's Food Safety Education Staff, the public is educated on how to safely handle, prepare, and store meat, poultry, and egg products to minimize incidence of foodborne illness. Safe-handling instructions (SHI) are required on a product if the product's meat or poultry component is raw or partially cooked (i.e., not considered ready-to-eat) and if the product is destined for household consumers or institutional uses (9 CFR 317.2(1) [meat]; 9 CFR 381.125(b) [poultry]).

Need and Use of the Information: FSIS has contracted with RTI International to conduct six consumer focus groups to gather information on consumers' understanding and use of the current SHI and responses to possible revisions to the SHI. Participants will be asked to complete pre- and post-discussion questionnaires. The purpose of each questionnaire is to collect information on participants' current awareness and use of the SHI and the likelihood they would change their behaviors if the SHI label is revised. FSIS will use the findings of the focus groups to understand consumers' knowledge and use of the current SHI for raw and partially cooked meat and poultry products and consumers' responses to possible revisions to the SHI. The lack of understanding would impede the Agency's ability to provide more useful information to consumers to help reduce foodborne illness in the United States.

Description of Respondents: Individuals or households.

Number of Respondents: 480.

Frequency of Responses: Reporting: Other (once).

Total Burden Hours: 157.

Ruth Brown,
Departmental Information Collection Clearance Officer.

[FR Doc. 2015-15664 Filed 6-25-15; 8:45 am]

BILLING CODE 3410-DM-P